DEPARTMENT OF COMMERCE

International Trade Administration

[A-533-502]

Certain Welded Carbon Steel Standard Pipes and Tubes From India: Preliminary Negative Determinations of Circumvention of the Antidumping Order

AGENCY: Enforcement and Compliance, International Trade Administration, Department of Commerce.

SUMMARY: The U.S. Department of Commerce (Commerce) preliminarily determines that imports of certain welded carbon steel standard pipes and tubes (pipe and tube), completed in Oman and the United Arab Emirates (UAE) from hot-rolled steel (HRS) produced in India, are not circumventing the antidumping duty (AD) order on pipe and tube from India.

DATES: Applicable August 26, 2022.

FOR FURTHER INFORMATION CONTACT: Jacob Keller or Dusten Hom, AD/CVD Operations, Office I, Enforcement and Compliance, International Trade Administration, U.S. Department of Commerce, 1401 Constitution Avenue NW, Washington, DC 20230; telephone: (202) 482-4849 or (202) 482-5075, respectively.

SUPPLEMENTARY INFORMATION:

Background

On May 12, 1986, Commerce published the order on imports of pipe and tube from India.¹ On February 22, 2022, Commerce initiated a country-wide circumvention inquiry to determine whether certain imports of pipe of tube completed in Oman and the UAE using HRS produced in India are circumventing the Order.² On March 24, 2022, Commerce selected from Oman, Al Jazeera Tube Mill Company SAOG (Al Jazeera), and, from the UAE, in alphabetical order, Ajmal Steel Tubes and Pipes Ind., LLC (Ajmal Steel), Conares Metal Supply Limited (Conares), and Universal Tube and Plastic Industries, Ltd. (Jebel Ali Branch) (UTP); KHK Scaffolding and Formwork LLC (KHK); and THL Pipe and Tube Industries LLC (THL) (collectively, Universal) as the mandatory respondents in these circumvention inquiries.³ Between March and July 2022, Commerce issued questionnaires to the four respondents and received timely responses.⁴ From April through July 2022, Commerce received comments from the company respondents and Bull Moose Tube Company, Nucor Tubular Products Inc., Wheatland Tube Company, and the United Steel, Paper and Forestry, Rubber, Manufacturing, Energy, Allied Industrial and Service Workers International Union, AFL-CIO, CLC (collectively, the domestic interested parties).⁵ On July 20, 2022, Commerce extended the time limit for issuing the preliminary determination of this circumvention inquiry until August 22, 2022.⁶

¹ See Antidumping Duty Order; Certain Welded Carbon Steel Standard Pipes and Tubes from India, 51 FR 17384 (May 12, 1986) (Order).

² See Certain Welded Carbon Steel Standard Pipes and Tubes from India: Initiation of Circumvention Inquiry on the Antidumping Duty Order, 87 FR 9571 (February 22, 2022).

³ See Memorandum, “Circumvention Inquiries on Certain Welded Carbon Steel Standard Pipes and Tubes from India: Respondent Selection,” dated March 24, 2022.

⁴ See Commerce's Letters, “Certain Welded Carbon Steel Standard Pipes and Tubes from India: Circumvention Inquiry Initial Questionnaire,” dated March 25, 2022; see also Al Jazeera's Letter, “Circular Welded Carbon-Quality Steel Pipe from India—Anti-circumvention Inquiry; Al Jazeera Questionnaire Response,” dated May 6, 2022; Conares' Letter, “Welded Carbon Steel Pipe & Tube: Circumvention Inquiry Initial Questionnaire Response,” dated May 16, 2022; Universal's Letter, “Certain Welded Carbon Steel Standard Pipes and Tubes from India—Anti-Circumvention Inquiry Initial Questionnaire Response,” dated May 16, 2022; Ajmal's Letter, “Ajmal Steel's Initial Questionnaire Response, Certain Welded Carbon Steel Standard Pipes and Tubes from India: Circumvention Inquiry,” dated May 20, 2022; Commerce's Letters, “Circumvention Inquiries on the Antidumping Duty Order on Certain Welded Carbon Steel Standard Pipes and Tubes from India: Supplemental Questionnaire,” dated June 15, 2022; Commerce's Letters, “Circumvention Inquiries on the Antidumping Duty Order on Certain Welded Carbon Steel Standard Pipes and Tubes from India: Supplemental Questionnaire,” June 22, 2022; Al Jazeera's Letter, “Circular Welded Carbon-Quality Steel Pipe from India—Anti-circumvention Inquiry; Al Jazeera SQR,” dated June 24, 2022; Ajmal's Letter, “Ajmal Steel's Supplemental Questionnaire Response, Certain Welded Carbon Steel Standard Pipes and Tubes from India: Circumvention Inquiry,” dated June 30, 2022; Universal's Letter, “Certain Welded Carbon Steel Standard Pipes and Tubes from India—Anti-Circumvention Inquiry Supplemental Questionnaire Response,” dated June 30, 2022; Conares' Letter, “Welded Carbon Steel Pipe & Tube: Circumvention Inquiry Supplemental Questionnaire Response,” dated July 1, 2022.

⁵ See Al Jazeera's Letter, “Circular Welded Carbon-Quality Steel Pipe from India; Al Jazeera comments and NFI re: DIPs' request for inquiry,” dated April 7, 2022; see also Conares' Letter, “Welded Carbon Steel Standard Pipe from India: Comments on Anti Circumvention Inquiry Request,” dated April 7, 2022; and Universal's Letter, “Certain Welded Carbon Steel Standard Pipes and Tubes from India—Response to Domestic Interested Parties' Factual Information Submitted in Support of Their Request for Commerce to Conduct an Anti-Circumvention Inquiry,” dated April 7, 2022; Domestic Interested Parties' Letter, “Certain Welded Carbon Steel Standard Pipes and Tubes from India: Comments and Factual Information in Response to Submissions of Al Jazeera, Universal, and Conares,” dated April 28, 2022; Domestic Interested Parties' Letters, “Certain Welded Carbon Steel Standard Pipes and Tubes from India: Comments on Ajmal's Initial Questionnaire Responses,” dated July 6, 2022; and “Certain Welded Carbon Steel Standard Pipes and Tubes from India: Comments on Universal's Questionnaire Responses and Submission of Information to Rebut, Clarify, or Correct,” dated July 7, 2022; Domestic Interested Parties Letter, “Certain Welded Carbon Steel Standard Pipes and Tubes from India: Comments Regarding Preliminary Circumvention Determination,” dated July 15, 2022; Universal's Letter, “Certain Welded Carbon Steel Standard Pipes and Tubes from India—Comments Regarding Preliminary Circumvention Determination,” dated July 19, 2022; Al Jazeera's Letter, “Circular Welded Carbon-Quality Steel Pipe from India—Anti-circumvention Inquiry; Al Jazeera Response to DIPs' Pre-Preliminary Comments,” dated July 19, 2022; Ajmal's Letter, “Ajmal's Pre-Prelim Comments, Certain Welded Carbon Steel Standard Pipes and Tubes from India: Circumvention Inquiry,” dated August 5, 2022; Universal's Letter, “Certain Welded Carbon Steel Standard Pipes and Tubes from India—Comments Regarding Preliminary Circumvention Determination,” dated August 8, 2022; Conares' Letter, “Welded Carbon Steel Standard Pipe from India: Anti-Circumvention Pre-Preliminary Comments,” dated August 8, 2022; Domestic Interested Parties Letter, “Certain Welded Carbon Steel Standard Pipes and Tubes from India: Additional Comments Regarding Preliminary Circumvention Determination,” dated August 12, 2022; and Al Jazeera's Letter, “Circular Welded Carbon-Quality Steel Pipe from India—Anti-circumvention Inquiry; Al Jazeera response to DIPs' pre-preliminary comments,” dated August 15, 2022.

⁶ See Memorandum. “Certain Welded Carbon Steel Standard Pipes and Tubes from India: Extension of Anti-Circumvention Preliminary Determination,” dated July 20, 2022.

Scope of the Order ⁷

⁷ See Order.

The products covered by the Order include certain welded carbon steel standard pipes and tubes with an outside diameter of 0.375 inch or more but not over 16 inches. For a full description of the scope of the Order, see the Preliminary Decision Memorandum.⁸

⁸ See Memorandum, “Certain Welded Carbon Steel Standard Pipes and Tubes from India: Preliminary Decision Memorandum for the Circumvention Inquiries on the Antidumping Duty Order,” dated concurrently with, and hereby adopted by, this notice (Preliminary Decision Memorandum), at 2.

Merchandise Subject to the Circumvention Inquiry

This circumvention inquiry covers pipe and tube completed in Oman and the UAE using India-origin HRS and subsequently exported from Oman and the UAE to the United States.

Methodology

Commerce is conducting this circumvention inquiry in accordance with section 781(b) of the Tariff Act of 1930, as amended (the Act), and 19 CFR 351.226. For a complete description of the events that followed the initiation of these circumvention inquiries, see the Preliminary Decision Memorandum. A list of topics included in the Preliminary Decision Memorandum is included as an Appendix to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

Preliminary Determinations

As detailed in the Preliminary Decision Memorandum, Commerce preliminarily determines that pipe and tube completed in Oman and the UAE using India-origin HRS and subsequently exported from Oman or the UAE to the United States are not circumventing the Order on a country-wide basis. Accordingly, Commerce is making a negative preliminary finding of circumvention of the Order.

Verification

As provided in 19 CFR 351.307, Commerce intends to verify information relied upon in making its final determination.

Public Comment

Because Commerce intends to conduct verification, interested parties will be provided an opportunity to submit written comments (case briefs) at a date to be determined by Commerce and rebuttal comments (rebuttal briefs) within seven days after the time limit for filing case briefs.⁹ Parties who submit case briefs or rebuttal briefs in this proceeding are encouraged to submit with each argument: (1) a statement of the issue; (2) a brief summary of the argument; and (3) a table of authorities.¹⁰ Case and rebuttal briefs should be filed electronically via ACCESS.¹¹ Note that Commerce has temporarily modified certain of its requirements for serving documents containing business proprietary information, until further notice.¹²

⁹ See 19 CFR 351.309(c)(l)(ii) and 351.309(d)(l). Interested parties will be notified through ACCESS regarding the deadline for submitting case briefs; see also 19 CFR 351.303 (for general filing requirements).

¹⁰ See 19 CFR 351.309(c)(2)(d)(2).

¹¹ See 19 CFR 351.303.

¹² See Temporary Rule Modifying AD/CVD Service Requirements Due to COVID-19; Extension of Effective Period, 85 FR 41363 (July 10, 2020).

Pursuant to 19 CFR 351.310(c), interested parties who wish to request a hearing, limited to issues raised in the case and rebuttal briefs, must submit a written request to the Assistant Secretary for Enforcement and Compliance, U.S. Department of Commerce, within 30 days after the date of publication of this notice. Requests should contain the party's name, address, and telephone number, the number of participants, whether any participant is a foreign national, and a list of the issues to be discussed. If a request for a hearing is made, Commerce intends to hold the hearing at a time and date to be determined.

Notification to Interested Parties

This determination is issued and published in accordance with section 781(b) of the Act and 19 CFR 351.226(g)(1).

Dated: August 22, 2022.
Lisa W. Wang,
Assistant Secretary for Enforcement and Compliance.

Appendix

List of Topics Discussed in the Preliminary Decision Memorandum

I. Summary

II. Background

III. Scope of the Order

IV. Merchandise Subject to the Circumvention Inquiry

V. Period of Circumvention Inquiry

VI. Affiliation and Collapsing

VII. Statutory and Regulatory Framework for Circumvention Inquiries

VIII. Statutory Analysis for the Circumvention Inquiry

IX. Summary of Statutory Analysis

X. Verification

XI. Country-Wide Negative Determination of Circumvention

XII. Recommendation

[FR Doc. 2022-18399 Filed 8-25-22; 8:45 am]

BILLING CODE 3510-DS-P